Title 3—

The President

Proclamation 9208 of November 7, 2014

Veterans Day, 2014

By the President of the United States of America

A Proclamation

Since the birth of our Nation, American patriots have stepped forward to serve our country and defend our way of life. With honor and distinction, generations of servicemen and women have taken up arms to win our independence, preserve our Union, and secure our freedom. From the Minutemen to our Post-9/11 Generation, these heroes have put their lives on the line so that we might live in a world that is safer, freer, and more just, and we owe them a profound debt of gratitude. On Veterans Day, we salute the Soldiers, Sailors, Airmen, Marines, and Coast Guardsmen who have rendered the highest service any American can offer, and we rededicate ourselves to fulfilling our commitment to all those who serve in our name.

Today, we are reminded of our solemn obligation: to serve our veterans as well as they have served us. As we continue our responsible drawdown from the war in Afghanistan and more members of our military return to civilian life, we must support their transition and make sure they have access to the resources and benefits they have earned. My Administration is working to end the tragedy of homelessness among our veterans, and we are committed to providing them with quality health care, access to education, and the tools they need to find a rewarding career. As a Nation, we must ensure that every veteran has the chance to share in the opportunity he or she has helped to defend. Those who have served in our Armed Forces have the experience, skills, and dedication necessary to achieve success as members of our civilian workforce, and it is critical that we harness their talent.

Across our country, veterans who fought to protect our democracy around the globe are strengthening it here at home. Once leaders in the Armed Forces, they are now pioneers of industry and pillars of their communities. Their character reflects our enduring American spirit, and in their example, we find inspiration and strength.

This day, and every day, we pay tribute to America's sons and daughters who have answered our country's call. We recognize the sacrifice of those who have been part of the finest fighting force the world has ever known and the loved ones who stand beside them. We will never forget the heroes who made the ultimate sacrifice and all those who have not yet returned home. As a grateful Nation, let us show our appreciation by honoring all our veterans and working to ensure the promise of America is within the reach of all who have protected it.

With respect for and in recognition of the contributions our service members have made to the cause of peace and freedom around the world, the Congress has provided (5 U.S.C. 6103(a)) that November 11 of each year shall be set aside as a legal public holiday to honor our Nation's veterans.

NOW, THEREFORE, I, BARACK OBAMA, President of the United States of America, do hereby proclaim November 11, 2014, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this seventh day of November, in the year of our Lord two thousand fourteen, and of the Independence of the United States of America the two hundred and thirty-ninth.

[FR Doc. 2014-26994

Filed 11-12-14; 8:45 am]

Billing code 3295-F5